DEPARTMENT OF HEALTH AND HUMAN SERVICES

Administration for Children and Families

[Program Announcement No. ACYF/FYSB 2003-02]

Announcement of the Availability of Financial Assistance and Request for Applications for Mentoring Children of Prisoners Grants

AGENCY: Administration on Children, Youth and Families, ACF, DHHS.

ACTION: Notice.

CFDA Number: The Catalog of Federal Domestic Assistance number is 93.616.

SUMMARY: The Family and Youth Services Bureau (FYSB) within the Administration on Children, Youth and Families (ACYF), Administration for Children and Families (ACF) announces the availability of financial assistance and request for applications for the FY 2003 Mentoring Children of Prisoners Program activities under section 439, Title IV-B, subpart 2 of the Social Security Act, as amended. The purpose of this program is to make competitive grants to applicants in urban, suburban, rural, and tribal populations with substantial numbers of children of incarcerated parents and to support the establishment and operation of programs using a network of public and private entities to provide mentoring services for these children.

This Program Announcement and its application forms are also available by calling or writing to the ACYF Operations Center at the address below: Educational Services, Inc., ACYF Operations Center, Attention: Sylvia Johnson, 1150 Connecticut Avenue, NW., Suite 1100, Washington, DC 20036, Telephone: 1-800-351-2293, Email: FYSB@esilsg.org, or by downloading the announcement from the FYSB Web site at http://www.acf.hhs.gov/programs/fysb.

DATES: The deadline for submitting a grant application under this announcement is July 15, 2003. Applications must be hard copy. One signed original and two copies must be submitted.

Application Mailing and Delivery Instructions: The closing time and date for receipt of applications is 4:30 p.m. (Eastern Time Zone). Mailed applications shall be considered as meeting an announced deadline if they are postmarked on or before the published deadline time and date. Applicants are responsible for mailing applications well in advance, when using all mail services, to ensure that the applications are received on or before the deadline time and date.

Applications handcarried by applicants, applicant couriers, other representatives of the applicant, or by overnight/express mail couriers shall be considered as meeting an announced deadline date if they are received on or before the published deadline date, between the hours of 8 a.m. and 4:30 p.m., EST, at the ACYF Operations Center between Monday and Friday (excluding Federal Holidays). The address must appear on the envelope/package containing the application to the Attention of Sylvia Johnson. Applicants are cautioned that express/overnight mail services do not always deliver as agreed.

ACF cannot accommodate transmission of applications by fax or through other electronic media. Therefore, applications transmitted to ACF electronically will not be considered in the current competition.

Extension of Deadline: ACF may extend application deadlines when circumstances such as acts of God (floods, hurricanes, etc.) occur, or when there are widespread disruptions of mail service, or in other rare cases. A determination to extend or waive deadline requirements rests with the Chief Grants Management Officer.

The Administration for Children and Families will not accept applications delivered by fax or e-mail regardless of date or time of submission and receipt.

Late Applications. Applications which do not meet the criteria stated above or are not received or postmarked by the deadline date are considered late applications. The Administration for Children and Families will notify each late applicant that its application will not be considered in the current competition.

FOR FURTHER INFORMATION CONTACT: ACYF Operations Center at the address and telephone number above, or for program information contact: Linda V. Barnett, Youth Services Program Specialist, Administration on Children, Youth and Families, Family and Youth Services Bureau, 330 C Street, SW., Washington DC 20447, (202) 205-8102, or Sylvia Johnson, Grants Management Officer, Office of Administration, (202) 401-4524.

Table of Contents

Background on Mentoring Children of Prisoners

General Information

Preference for Geographic Distribution

Eligibility

Project Period

Estimated Range of Awards

Applicants Share of Project Cost

Application Requirements

Statutory Priority

Program Guidance

Assurances and Requirements

Definitions

Evaluation Criteria Section

Objectives and Need for Assistance

Approach

Results or Benefits Expected

Staff Position Data and Organizational Profiles

Budget and Budget Justification

Submission Guidelines

Paperwork Reduction Act

Authorizing Legislation

Non-Profit Status

“Across our Nation, many Americans are responding to the call to service by mentoring a child in need. By offering love, guidance, and encouragement, mentors put hope in children's hearts, and help ensure that young people realize their full potential.”

President George W. Bush,

January 2003

Background on Mentoring Children of Prisoners

Witnessing and living with the arrest and incarceration of a parent is devastating for children and families. The living conditions, family configurations, and problems faced by the parents make it likely that significant numbers of children of prisoners will suffer emotional and behavioral difficulties. Often economic, social, and emotional burdens are placed on families and caretakers, especially children. Relationships are disrupted and any existing stability is shattered. As a result, the majority of these children experience multiple changes of caregivers and/or living arrangements.

What Are the Effects of Incarceration on the Child?

Research has found that significant physical absence of a parent has profound effects on child development. Children of incarcerated parents are seven times more likely to become involved in the juvenile and adult criminal justice systems. Parental arrest and confinement often lead to stress, trauma, stigmatization , and separation problems which may be compounded by existing poverty, violence, substance abuse, high-crime environments, child abuse and neglect, multiple caregivers and/or prior separations. These children are more likely to develop attachment disorders and often exhibit broad varieties of behavioral, emotional, health, and educational difficulties. Many children of incarcerated parents are angry and lash out at others resulting in confrontations with law enforcement. Lacking the support of families, schools, and other community institutions, they often do not develop values and social skills leading to the formation of successful relationships.

Who Are the Children?

Between 1991 and 1999, the number of children with a parent in a Federal or state correctional facility increased by more than 100 percent, from approximately 900,000 to approximately 2,000,000. Like their parents, children of criminal offenders reflect the racial disparities of the justice system. Seven percent of African American children have an incarcerated parent, almost three percent of Hispanic children have an incarcerated parent, while less than one percent of white children have an incarcerated parent.

Who Are the Parents?

According to the national data from the Bureau of Justice Statistics, in 2001, 3.5 million parents were supervised by the correctional system. Prior to incarceration, 64 percent of female prisoners and 44 percent of male prisoners in state facilities lived with their children. During incarceration, nearly 90 percent of children of incarcerated fathers lived with their mothers and 79 percent of children of incarcerated mothers lived with a grandparent or other relative. Although research has indicated that parents and children should visit one another, less than 50 percent of prisoners receive visits from their children. In a number of cases, the caregiver may not want the child to visit the inmate and prisons are often located far away from the urban areas where most children of prisoners live. According to the Bureau of Prisons, there is evidence to suggest that inmates who are connected to their children and families are more likely to avoid negative incidents and have reduced sentences.

Who Are the Mentors?

Mentors are recruited from a variety of sources including congregations, faith and community-based organizations, non-profit organizations, service organizations, and the business community. Research has shown that the health and productivity of mentors is enhanced by their connection to a child in need.

How Can Mentoring Help?

It has been demonstrated that mentoring is a potent force for improving youth outcomes. Mentoring increases the likelihood of regular school attendance and academic achievement. It also decreases the chances of engaging in self-destructive or violent behavior. A trusting relationship with a caring adult will provide stability and often have a profound, life-changing effect on the child. Mentoring provides the incarcerated parent with the assurance that somebody is there to look after the best interests of their child.

What Are Possible Outcomes?

Research confirms the societal benefits of mentoring efforts with children. Specifically, data indicates that mentoring programs have reduced first time drug use by almost fifty percent and first-time alcohol use by thirty-three percent. Also, caregiver and peer relationships are shown to improve. In addition, mentored youth displayed greater confidence in their schoolwork and improved their academic performance.

How Are Matches Initiated and Monitored?

Parents, incarcerated parents, caretakers, schools, courts, social service organizations, or congregations will identify children in need of a mentor and initiate the referral to a mentoring organization. The mentoring organization will facilitate and monitor the match by providing parents and other stakeholders' opportunities to provide evaluative feedback on the match. The mentoring organization will develop and distribute status reports to appropriate stakeholders.

What Happens When Parents Return Home From Prison?

Mentors are not meant to be “replacement parents.” In situations where incarcerated parents are actively engaged in the mentoring process, through visits, phone conversations or letters, reunification is a natural process with realistic expectations. Mentors can help facilitate a smooth reentry by helping parents reconnect with their child and are often invited to continue to be a supportive resource well after the return of the parent.

What Is the Family and Youth Services Bureau?

For over thirty years, the Family and Youth Services Bureau (FYSB) within the Administration for Children and Families (ACF) has provided grants at the local level to faith-based organizations and community-based organizations serving a population of vulnerable youth, including runaway, homeless, and street youth.

General Information

Preference for Geographic Distribution

A wide geographic distribution of applicants will be considered, including applicants from urban, suburban, rural and tribal communities, in addition to the rank order of scored applications.

Eligibility

Those eligible to apply for funding under this grant competition include faith and community-based organizations, tribal governments or consortia, and state or local governments where substantial numbers of children of prisoners live. Applicants must apply to establish new programs or to expand existing programs utilizing a network of public and private community entities to provide mentoring services for children of prisoners. Collaboration among eligible entities is strongly encouraged. All eligible organizations, including faith-based organizations, are eligible to compete on equal footing for Federal financial assistance used to support social service programs. No organization may be discriminated against on the basis of religion in the administration or distribution of Federal financial assistance under social service programs. Faith-based organizations are eligible to compete for Federal financial assistance while retaining their identity, mission, religious references, and governance. However, faith-based organizations that receive funding may not use Federal financial assistance, including funds, to meet any cost-sharing requirements, to support inherently religious activities, such as worship, religious instruction, or prayer. In addition, any participation in these activities by beneficiaries must be voluntary.

Project Period

This announcement invites applications for project periods of up to three years. Awards will be made on a competitive basis for a one-year budget period, although project periods may be for up to three years. Applications for continuation grants funded under these awards beyond the one-year budget period, but within the three-year project period, will be entertained in subsequent years on a noncompetitive basis, subject to the availability of funds, satisfactory progress of the grantee, and a determination that continued funding would be in the best interest of the Government.

Estimated Range of Awards

The Family and Youth Services Bureau expects to award approximately $9,500,000 for new competitive grants for Fiscal Year 2003. Grants will range from $100,000 to $1,000,000 depending on the scope of the project and the availability of funds. The ceiling on funding was lowered from the authorizing legislation because of a reduced appropriation. If a program shows a significant growth in the second year, and depending on fund availability, supplemental funds may be added to the existing award. Please note that an automatic increase of funds is not implied, nor are any additional funds guaranteed.

Applicant Share of Project Cost

For the first and second years of the grant, grantees must provide at least 25 percent of the approved project cost. After the second year of the grant, the amount that the grantees must provide increases to 50 percent. The total approved cost of the project is the sum of the Federal share and the non-Federal share. For example if the total project cost of a program is $200,000 then the applicant must demonstrate a commitment of at least a $50,000 match and request funding of $150,000 from the Federal government. The Federal share may be matched by cash or in-kind contributions, although applicants are encouraged to meet their requirement through cash contributions. In determining the amount of the non-Federal share, the fair market value will be attributed to goods, services (excluding mentoring time and services) and facilities contributed from non-Federal sources. Grantees will be held accountable for commitments of required non-Federal funds. Failure to provide the required match will result in disallowance of Federal funds.

Application Requirements

To be considered for a grant, each application must be submitted in accordance with the guidance provided below. The application must be signed by an individual authorized to act for the applicant agency and to assume responsibility for the obligations imposed by terms and conditions of the grant award. If more than one agency is involved in submitting a single application, one entity must be identified as the applicant organization that will have legal responsibility for the grant.

Statutory Priority

This grant competition focuses exclusively on projects designed to meet the statutory priority in Title I, subtitle B, section 121 as amended by the Act known as “Promoting Safe and Stable Families Amendments of 2001”.

Program Guidance

To be eligible for funding, a project must propose mentoring programs and activities to serve the children of prisoners in areas with a comparative severity of need for mentoring services, taking into consideration data on the numbers of children (and in particular of low-income children) with an incarcerated parent (or parents) in the service area.

Projects funded under this program must:

1. Link children with mentors who have:

• Received training and support in mentoring;

• Completed screening and reference checks, including child and domestic abuse records checks and criminal background checks;

• Expressed an interest in working with children in disadvantaged situations.

2. Incorporate the elements of Positive Youth Development by providing youth with:

• Safe and trusting relationships;

• Healthy messages about life and social behavior;

• Guidance from a positive adult role model;

• Increased participation in, and enhanced their ability to benefit from, education;

• Participation in civic service and community activities;

3. Develop a plan for the whole family:

• Connect the child with the imprisoned parent with permission from other spouse or guardian when appropriate;

• Plan to provide support services to siblings and families when appropriate;

• Support caregivers with training, and help navigating the services provided by the mentoring network.

Assurances and Requirements

In addition to the standard assurances of safety, applicants must provide the following assurances:

• Mentors will not be assigned more children than can be served without undermining the mentor's ability to be effective.

• Grantees will recruit mentors who are committed to spending at least one hour per week with assigned children for a period of at least one year.

• The mentoring program will provide children with emotional and academic support as well as exposure to a variety of experiences that they might not otherwise encounter.

• The program will be monitored to ensure that each child benefits from the match. If the match is not found to be beneficial to the child a new mentor will be assigned.

• The program will cooperate with any research or evaluation efforts sponsored by the Administration for Children and Families.

• The program will submit quarterly program reports and annual financial reports, as instructed by FYSB.

• The program will set aside funding for travel to inform the Bureau and meet with other grantees at an annual sharing and technical assistance meeting.

Definitions

Children of Prisoners: Children, where one or both parents are incarcerated in a Federal, state or local correctional facility, on parole or on probation. Children will be 4 years to 15 years of age from childhood to adolescence when they begin to receive services.

Mentoring: A structured, managed program in which children are appropriately matched with screened and trained adult volunteers for one-to-one relationships. This involves meetings and activities on a regular basis between the mentors and children to support a child's need for a caring and supportive adult in their life.

Prisoner: Adult who is incarcerated in a Federal, state, or local correctional facility or is on parole or probation.

Caretaker: The parent or legal guardian charged with the responsibility of caring for a child while the parent is incarcerated.

Mentoring Organization: The organization that coordinates the local community and faith-based organizations and entities participating in the provision of mentoring services and the mentoring support network. Mentoring organizations will be responsible for the application and performance of the grant. They also will be responsible for providing the cash or in-kind contribution.

Mentoring Services: Those services and activities that support a structured, managed program of mentoring, including the management of trained personnel in partnership with sponsoring local organizations. Services will include: outreach to and screening of eligible children; screening and training of adult volunteers; matching of children with suitable adult mentors; support and oversight of the mentoring relationship; and establishment of goals and evaluations of outcomes for mentored children. Mentoring services also will make appropriate referrals to partner organizations when the health and safety of a child is an issue.

Mentoring Support Network: Private non-profit organizations, faith-based organizations, community-based organizations, professional, medical and public service providers in the community that, through referral, will support the health and well-being of the child, caretaker(s) and other siblings.

Evaluation Criteria Section

The following specific criteria will be used. The maximum total score for all criteria is 100 points. The possible score for each criterion is indicated in parentheses.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. For example, describe the tasks needed to accomplish the proposed project in Phases 2 and 3 and any relevant data source to support the work. When activities and functions cannot be quantified, list them in chronological order to show the schedule of accomplishments and their target dates. If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Results or Benefits Expected

Identify the results and benefits to be derived.

Staff Position Data and Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocation of the proposed costs.

Personnel

Description: Cost of new employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of modifications, attachments, accessories, or auxiliary apparatus necessary to make it usable for the purpose for which it is acquired. Ancillary charges, such as taxes, duty, protective in-transit insurance, freight, and installation shall be included in or excluded from acquisition cost in accordance with organization's regular written accounting practices.)Justification: For each type of equipment requested, provide a description of the equipment, the cost per unit, the number of units, the total cost, and a plan for use on the project, as well as use or disposal of the equipment after the project ends. An applicant organization that uses its own definition for equipment should provide a copy of its policy, which includes the equipment definition.

Supplies

Description: Costs of all tangible personal property other than that included under the Equipment category.

Justification: Specify general categories of supplies and their costs. Show computations and provide other information that supports the amount requested.

Contractual

Description: Costs of all contracts for services and goods except for those that belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use part 92 procedures, must justify any anticipated procurement action that is expected to be awarded without competition and exceed the simplified acquisition threshold fixed at 41 U.S.C. 403(11) (currently set at $100,000). Recipients might be required to make available to ACF pre-award review and procurement documents, such as request for proposals or invitations for bids; independent cost estimates, etc.

Note: Whenever the applicant intends to delegate part of the project to another agency, the applicant must provide a detailed budget and budget narrative for each delegate agency, by agency title, along with the required supporting information referred to in these instructions.

Indirect Charges

Description: Total amount of indirect costs. The Department of Health and Human Services (HHS) or another cognizant Federal agency should use this category only when the applicant currently has an indirect cost rate approval.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application that contain this information.

Federal and Non-Federal Resources

Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: First column, categories; second column, Federal budget; third column(s), non-Federal budget; and last column, total budget. The budget justification should be in narrative form.

Submission Guidelines

Project Summary Abstract: Provide a one page (or less) summary of the project description with reference to the funding request.

Full Project Description and Evaluation Criteria: Describe the project clearly in 30 pages or less (not counting supplemental documentation, letters of support or agreements) using the following outline and guidelines.

Applicants are required to submit a full project description and must prepare the project description statement in accordance with the following instructions. The pages of the project description must be numbered and are limited to 30 typed pages starting on page 1 of “Objectives and Need for Assistance”. The description must be doubled-spaced, printed on only one side, with at least ½ inch margins. Pages over the limit will be removed from the competition and will not be reviewed.

It is in the applicant's best interest to ensure that the project description is easy to read, logically developed in accordance with the evaluation criteria and adheres to page limitations. In addition, applicants should be mindful of the importance of preparing and submitting applications using language, terms, concepts, and descriptions that are generally known to the targeted youth and broader youth services fields. The maximum number of pages for supplemental documentation is 10 pages. The supplemental documentation, subject to the 10-page limit, must be numbered and might include brief resumes, position descriptions, proof of non-profit status (if applicable), news clippings, press releases, etc. Supplemental documentation over the 10-page limit will not be reviewed. Applicants must include letters of support or agreement, if appropriate or applicable, in reference to the project description. Letters of support are not counted as part of the 30-page project description limit or the 10-page supplemental documentation limit. (Note: Applicable agreements are those between grantees and sub-grantees or sub-contractors or other cooperating entities which support or complement the provision of mandated services to children of prisoners.)

Objectives and Need for Assistance (15 Points)

In determining the need for assistance for the proposed project, the following factors are considered:

• The conditions and characteristics of youth and families affected by incarceration in the service delivery area. The description must demonstrate an awareness of the special needs of this population, including service delivery gaps and the magnitude of the problem within the service delivery area. (5 points)

• Calculate the number of children with parents in prison and project the number of mentor-child matches proposed to be established and maintained annually under the program. (5 points)

• The extent to which there are existing support services for this population of youth, with specific references to coordination of courts, health and mental health care, social services, school and child welfare. It must be clear that the mentoring program will complement and enhance, not duplicate available services and that the mentoring program will work in conjunction with these services to produce better outcomes for children and families. (5 points)

Results and Benefits Expected (20 Points)

In determining the quality of expected benefits the following factors are considered:

• The extent to which goals, objectives and outcomes to be achieved by the proposed project are clearly specified and measurable. (10 points)

• The extent to which the methods of evaluation will provide performance feedback and permit periodic assessment of progress toward achieving intended outcomes.(5 points)

• The extent to which outcomes reflect gains in positive social behaviors, youth engagement and asset acquisition. (5 points)

Approach (30 Points)

In determining the quality of the project design or approach the following factors are considered:

• The detailed plan designed to identify, screen and recruit mentors. Provide detailed volunteer screening procedures to ensure that the mentor poses no safety risk to the child and has the necessary skills to participate in a mentoring relationship. Preferences will be given to programs that plan to recruit and train mentors within the service delivery area. (10 points)

• The resources that will be dedicated to supporting the needs of caretakers and other children in the family setting. Also, when appropriate, the extent that the program proposes to work with incarcerated parents and addresses their re-entry. (5 points)

• The training process for mentors which will ensure their ability to successfully mentor this special population. The extent that training is based on best practices supported by research. (5 points)

• The quality of the mechanism that will be used to match children with mentors, demonstrating sensitivity to the diverse needs of the children and the support provided for mentors in order to sustain long-term mentoring relationships.(5 points)

• The level of supervision, oversight and monitoring of the child and mentor relationships and activities. State the expected ratio of staff to mentors. Provide a detailed plan for collecting, on a monthly basis, data documenting meetings and activities by trained volunteer coordinators to ensure personal oversight and safety of the children and their mentors. (5 points)

Staff Position Data and Organizational Profiles (25 Points)

In reviewing the required staff and position data and the organizational profile, the following factors are considered:

• A demonstrated history of providing services to youth and families in disadvantaged situations, along with the ability to partner and build coalitions at the community level. (10 points)

• A specific definition of the area where services are to be delivered. (Maps and graphic aids may be attached as part of the supplementary documentation) (5 points)

• The extent to which community stakeholders, including parents, incarcerated parents, local community organizations, schools, government, caretakers and children, have participated in the project design. List and describe how these partners will participate in the mentoring network. Include an organizational chart. (5 points)

• Quality of skills, knowledge and experience of the project director and project staff. Job descriptions should be included, as well as a description of staff training and specific cultural diversity training related to mentoring the target population.(5 points)

Budget and Budget Justification (10 Points)

In determining the soundness of the budget and budget justification, the following factors are considered:

• The extent to which costs of the proposed program are reasonable and justified in terms of numbers of children of prisoners, types and quantities of services to be provided, and the anticipated results and benefits. Discussion should refer to the budget information presented on Standard Form 424 and 424A and the applicant's budget justification. (5 points)

• Identification of fiscal control and accounting procedures that will be used to ensure the prudent use, proper disbursement, and accurate accounting of federal funds received, as well as the accounting of cash and in-kind for the non-federal match. (5 points)

Assurances and Certifications

Forms and Certifications: Fill out Standard Forms 424 and 424A and the associated certifications and assurances in Appendix A based on the instructions on the forms.

Application requesting financial assistance for non-construction projects must file the Standard Form 424B, “Assurances: Non-Construction Programs.” Applicants must sign and return the Standard Form 424B with their applications.

Lobbying

Applicants must provide a certification regarding lobbying when applying for an award in excess of $100,000. Applicants who have used non-Federal funds for lobbying activities in conjunction with receiving assistance under this announcement shall complete a disclosure form to report lobbying. Applicants must sign and return the disclosure form, if applicable, with their applications.

Drug Free Workplace

Applicants must make the appropriate certification of their compliance with the Drug-Free Workplace Act of 1988. By signing and submitting the application, the applicant is providing the certification and need not mail back the certification with the application.

Certification of Debarment

Applicant must make the appropriate certification that they are not presently debarred, suspended, or otherwise ineligible for an award. By signing and submitting the application, the applicant is providing the certification and need not mail back the certification with the application.

Paperwork Reduction Act of 1995 (Public Law 104-13)

Public reporting burden for this collection of information is estimated to average 20 hours per overall response, including the time for reviewing instructions, gathering and maintaining the data needed, and reviewing the collection of information.

The Uniform Project Description is approved under OMB control number 0970-0139, which expires 12/31/2003. An agency may not conduct or sponsor and a person is not required to respond to, a collection of information unless it displays a currently valid OMB control number.

Authorizing Legislation

Grants for Mentoring Children of Prisoners (MCIP) programs are authorized by further amending and by adding at the end of subpart 2 of part B of Title IV (U.S.C. 629-629e) the Safe and Stable Families Act of 2001, (Public Law 107-133). Text of this statute may be found at http://www.acf.hhs.gov/programs/fysb.

Notification Under Executive Order 12372

This program is covered under Executive Order (E.O.) 12372, “Intergovernmental Review of Federal Programs”, and 45 CFR part 100, “Intergovernmental Review of Department of Health and Human Services Programs and Activities”. Under the Order, States may design their own processes for reviewing and commenting on proposed Federal assistance under covered programs.

As of January 16, 2003, of the most recent SPOC list, the following jurisdictions have elected not to participate in the Executive Order process. Applicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming. Note: Inquiries about obtaining a Federal grant should not be sent to OMB. The best source for this information is the CFDA. The official list of the jurisdictions elected not to participate in E.O. 12372 can be found at http://www.whitehouse.gov/omb/grants/spoc.html.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2). A SPOC has 60 days from the application deadline to comment on proposed new or competing continuation awards. SPOCs are encouraged to eliminate the submission of routine endorsements as official recommendations. Additionally, SPOCs are requested to clearly differentiate between mere advisory comments and those official State process recommendations, which may trigger the “accommodate or explain” rule.

When comments are submitted directly to ACF, they should be addressed to: Department of Health and Human Services, Administration for Children and Families, Office of Grants Management, Division of Discretionary Grants, 370 L'Enfant Promenade SW., Mail Stop 6C-462, Washington, DC 20447. (Note: State/Territory participation in the intergovernmental review process does not signify applicant eligibility for financial assistance under a program. A potential applicant must meet the eligibility requirements of the program for which it is applying prior to submitting an application to its SPOC, if applicable, or to ACF.)

Dated: May 12, 2003.
Wade F. Horn,
Assistant Secretary, Administration for Children and Families.

[FR Doc. 03-12242 Filed 5-15-03; 8:45 am]

BILLING CODE 4184-01-P